DEPARTMENT OF TRANSPORTATION

Federal Aviation Administration

14 CFR Part 39

[Docket No. FAA-2017-0156; Directorate Identifier 2017-CE-003-AD]

RIN 2120-AA64

Airworthiness Directives; ZLIN AIRCRAFT a.s. Airplanes

AGENCY: Federal Aviation Administration (FAA), Department of Transportation (DOT).

ACTION: Notice of proposed rulemaking (NPRM).

SUMMARY: We propose to adopt a new airworthiness directive (AD) for ZLIN AIRCRAFT a.s. Model Z-242L airplanes that would supersede AD 2003-11-12. This proposed AD results from mandatory continuing airworthiness information (MCAI) originated by an aviation authority of another country to identify and correct an unsafe condition on an aviation product. The MCAI describes the unsafe condition as a need to incorporate new revisions into the Limitations section, Chapter 9, of the FAA-approved maintenance program (e.g., maintenance manual) to impose new or more restrictive life limits on critical components. We are issuing this proposed AD to require actions to address the unsafe condition on these products.

DATES: We must receive comments on this proposed AD by April 17, 2017.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact ZLIN AIRCRAFT a.s., Letiště 1887, 765 02 Otrokovice, Czech Republic, telephone: +420 725 266 711; fax: +420 226 013 830; email: info@zlinaircraft.eu, Internet: http://www.zlinaircraft.eu. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2017-0156; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Comments Invited

We invite you to send any written relevant data, views, or arguments about this proposed AD. Send your comments to an address listed under the ADDRESSES section. Include “Docket No. FAA-2017-0156; Directorate Identifier 2017-CE-003-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On May 22, 2003, we issued AD 2003-11-12, Amendment 39-13171 (68 FR 32629, June 2, 2003) (“AD 2003-11-12”). That AD required actions intended to address an unsafe condition on ZLIN AIRCRAFT a.s. Model Z-242L airplanes and was based on mandatory continuing airworthiness information (MCAI) originated by an aviation authority of another country.

Since we issued AD 2003-11-12, a revision to the airworthiness limitations chapter of the aircraft maintenance manual has been issued, and the State of Design airworthiness authority took AD action, as identified below.

The European Aviation Safety Agency (EASA), which is the Technical Agent for the Member States of the European Community, has issued AD No.: 2017-0005, dated January 10, 2017 (referred to after this as “the MCAI”), to correct an unsafe condition for the specified products. The MCAI states:

The airworthiness limitations for the Zlin Aircraft a.s. Z 242 L aeroplanes, which are approved by EASA, are defined and published in Chapter 9 of Zlin Aircraft a.s. Z 242 L Maintenance Manual (MM)—Volume I Document 003.021.1 (in Czech language) or in Chapter 9 of Z 242 L MM—Volume I Document 003.22.1 (in English language). These instructions have been identified as mandatory for continued airworthiness.

Failure to accomplish these instructions could result in an unsafe condition.

Zlin Aircraft a.s. recently published Revision 22 to Chapter 9, Volume I, of the Z 242 L MM, introducing new and/or more restrictive limitations.

For the reason described above, this AD requires accomplishment of the actions specified in the Zlin Aircraft a.s. Z 242 L MM Chapter 9, Volume I, at Revision 22.

You may examine the MCAI on the Internet at http://www.regulations.gov by searching for and locating Docket No. FAA-2017-0156.

Related Service Information Under 1 CFR Part 51

ZLIN AIRCRAFT a.s. has issued Z 242 L DOC. No. 003.22.1 Maintenance Manual—Vol. I. Chapter 9, Airworthiness Limitations, Revision No. 22, dated March 15, 2016. The revision to the Limitations sections introduces new and/or more restrictive safe life limits for the Model Z 242 airplane. This service information is reasonably available because the interested parties have access to it through their normal course of business or by the means identified in the ADDRESSES section of this NPRM.

FAA's Determination and Requirements of This Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD would affect 30 products of U.S. registry. We also estimate that it would take about 1 work-hour per product to comply with the proposed requirement to incorporate the new revision into the Limitations section of the FAA-approved maintenance program (e.g., maintenance manual). The average labor rate is $85 per work-hour.

Based on these figures, we estimate the cost of this portion of this proposed AD on U.S. operators to be $2,550, or $85 per product.

The above costs only account for the time to incorporate the document into the Limitations section of the FAA-approved maintenance program. These proposed limitations would impose more restrictive life limits on some parts and provide new life limits for others. While the cost of these proposed replacements could be expensive, they would only be required to operate the airplane past the established times. Ultimately, the proposed estimated cost of replacing all life-limited parts could come close to the cost of the airplane. These proposed life limits are necessary to continue to operate the airplane in an airworthy manner.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13171 (68 FR 32629, June 2, 2003), and adding the following new AD:

ZLIN AIRCRAFT a.s. (type certificate previously held by MORAVAN a.s.): Docket No. FAA-2017-0156; Directorate Identifier 2017-CE-003-AD.

(a) Comments Due Date

We must receive comments by April 17, 2017.

(b) Affected ADs

This AD replaces AD 2003-11-12, Amendment 39-13171 (68 FR 32629, June 2, 2003) (“AD 2003-11-12”)

(c) Applicability

This AD applies to ZLIN AIRCRAFT a.s. Model Z-242L airplanes, all serial numbers, certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as a need to incorporate new revisions into the Limitations section, Chapter 9, of the FAA-approved maintenance program (e.g., maintenance manual). We are issuing this AD to prevent structural failure of the wing due to fatigue cracking. Such failure could result in a wing separating from the airplane with consequent loss of control.

(f) Actions and Compliance

Unless already done, do the following actions:

(1) For all affected airplanes: As of March 21, 2003 (the effective date of AD 2003-03-13 (68 FR 4905, January 21, 2003)), annotate Acrobatic and Utility category operational time in the logbook. If the airplane is utilized in either of these categories at any time during a flight, annotate the total time for that flight in the Utility or Acrobatic category, as appropriate. Do the logbook annotation following the procedures in Moravan Mandatory Service Bulletin Z 242L/37a (Z 142C/17a), Rev. 1, dated October 31, 2000; and Moravan Mandatory Service Bulletin Z 242L/38a (Z142C/18a)—Rev. 1, April 15, 2003. The owner/operator holding at least a private pilot certificate as authorized by section 43.7 may do this action.

(2) For airplane serial numbers 0001 through 0656 that do not have strengthened wings installed (both left and right side) in accordance with Moravan Mandatory Service Bulletin Z 242L/27a—Rev 2. dated April 15, 2003, or Rev. 1, dated October 31, 2000:

(i) On or before 10 days after June 5, 2003 (the effective date of AD 2003-11-12), incorporate aerobatic frequency information into the Limitations section of the airplane flight manual (AFM) as specified in Moravan Mandatory Service Bulletin Z 242L/38a—Rev. 1, dated April 15, 2003. The owner/operator holding at least a private pilot certificate as authorized by section 43.7 may do this action. Make an entry into the aircraft records showing compliance with these portions of the AD in accordance with section 43.9 of the Federal Aviation Regulations (14 CFR 43.9).

(ii) On or before reaching 190 hours time-in-service in the Acrobatic category and/or Utility category or on or before 90 days after March 21, 2003 (the effective date of AD 2003-03-13 (68 FR 4905, January 21, 2003)), whichever occurs later, insert the following information into the Limitations section of the airplane flight manual (AFM): “Do not operate in the Acrobatic or Utility category. Operate in the Normal category only.”

The owner/operator holding at least a private pilot certificate as authorized by section 43.7 of the Federal Aviation Regulations (14 CFR 43.7) may accomplish this AFM insertion of this AD. Make an entry into the aircraft records showing compliance with these portions of the AD in accordance with section 43.9 of the Federal Aviation Regulations (14 CFR 43.9). This operational restriction is referenced in Moravan Mandatory Service Bulletin Z 242L/37a (Z 142C/17a), Rev. 1, dated October 31, 2000.

(3) For airplane serial numbers 0657 or higher or one in the range of 0001 through 0656 that has strengthened wings (both left and right side) installed in accordance with Moravan Mandatory Service Bulletin Z 242L/27a—Rev. 1, dated October 31, 2000, or Rev. 2, dated April 15, 2003: On or before 10 days after June 5, 2003 (the effective date of AD 2003-11-12), incorporate aerobatic frequency information into the Limitations section of the airplane flight manual (AFM) as specified in Moravan Mandatory Service Bulletin Z 242L/38a—Rev. 1, dated April 15, 2003. The owner/operator holding at least a private pilot certificate as authorized by section 43.7 may do this action. Make an entry into the aircraft records showing compliance with these portions of the AD in accordance with section 43.9 of the Federal Aviation Regulations (14 CFR 43.9).

(4) For all affected airplanes: Within 10 days after the effective date of this AD, insert Chapter 9, Airworthiness Limitations, Revision No. 22, dated March 15, 2016, of ZLIN AIRCRAFT a.s. Z 242 L, Doc, No. 003.002.1 Maintenance Manual—Vol. I into the Limitations section of the FAA-approved maintenance program (e.g., maintenance manual). The owner/operator holding at least a private pilot certificate as authorized by section 43.7 of the Federal Aviation Regulations (14 CFR 43.7) may accomplish this maintenance manual insertion requirement of this AD. Make an entry into the aircraft records showing compliance with these portions of the AD in accordance with section 43.9 of the Federal Aviation Regulations (14 CFR 43.9). If a discrepancy is found during the accomplishment of any of the actions required by the document listed in this paragraph, before further flight after finding such discrepancy, contact ZLIN AIRCRAFT a.s. at the address specified in paragraph (h) of this AD for an FAA-approved repair scheme and incorporate that repair scheme.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2017-0005, dated January 10, 2017, for related information. You may examine the MCAI on the Internet at http://www.regulations.gov by searching for and locating Docket No. FAA-2017-0156. For service information related to this AD, contact ZLIN AIRCRAFT a.s., Letiště 1887, 765 02 Otrokovice, Czech Republic, telephone: +420 725 266 711; fax: +420 226 013 830; email: info@zlinaircraft.eu, Internet: http://www.zlinaircraft.eu. You may review copies of the referenced service information at the FAA, Small Airplane Directorate, 901 Locust, Kansas City, Missouri 64106. For information on the availability of this material at the FAA, call (816) 329-4148.

Issued in Kansas City, Missouri, on February 17, 2017.
Pat Mullen,
Acting Manager, Small Airplane Directorate, Aircraft Certification Service.

[FR Doc. 2017-03965 Filed 3-1-17; 8:45 am]

BILLING CODE 4910-13-P